DEPARTMENT OF AGRICULTURE

Food Safety and Inspection Service

9 CFR Parts 381 and 441

[Docket No. 97-054FC]

RIN: 0583-AC26

Retained Water in Raw Meat and Poultry Products; Poultry Chilling Requirements

AGENCY: Food Safety and Inspection Service, USDA.

ACTION: Final rule; correction.

SUMMARY: The Food Safety and Inspection Service is correcting errors in a final rule, published in the Federal Register of January 9, 2001, limiting the amount of retained water in raw meat and poultry products and amending the poultry chilling requirements. The Agency made inadvertent paragraph designation and other errors in the amended regulatory text and in corresponding preamble references to the regulatory amendments. One such error affected the regulation preventing poultry with fecal contamination from entering the chiller. The Agency is also adding a cross-reference to a provision on the sources of ice and water used for chilling to ensure that the regulations on this subject are read consistently.

EFFECTIVE DATE: January 9, 2002.

FOR FURTHER INFORMATION CONTACT: Patricia F. Stolfa, Assistant Deputy Administrator, Office of Policy, Program Development and Evaluation, Food Safety and Inspection Service, U.S. Department of Agriculture, Washington DC 20250-3700; (202)205-0699.

SUPPLEMENTARY INFORMATION: The January 9, 2001, final rule amends the FSIS regulations by limiting the amount of retained water in raw, single-ingredient, meat and poultry products to the amount that is unavoidable in achieving a food-safety purpose. The final rule requires that affected products bear labeling that shows the amount of such retained water. It also makes a number of technical changes in the poultry chilling regulations that are intended to improve consistency with the Pathogen Reduction/Hazard Analysis and Critical Control Point regulations, eliminate “command-and-control” features, and reflect current technological capabilities.

In making changes in the poultry definitions and in the general requirements for operations and procedures in poultry establishments (9 CFR 381.1(b), 381.65 and 381.66), FSIS inadvertently made some paragraph designation and other errors in the amended regulatory text. In the preamble, the Agency also made corresponding errors and incorrect references to the amended regulatory text. FSIS is now correcting these errors.

In the display of regulatory text, FSIS is correcting the designation for the definition of “ready-to-cook” poultry in § 381.1(b). The definition should not have been designated as paragraph (b)(44) because paragraph designations for individual definitions have been removed (64 FR 745; January 6, 1999). FSIS is making corresponding corrections to the preamble references to the revised text.

In the preamble, FSIS incorrectly described a change that was made in the poultry chilling requirements (9 CFR 381.66(c)(2)(i)). FSIS is therefore correcting the preamble text explaining the § 381.65 and § 381.66 revisions.

FSIS also is correcting the designation of the text of revised § 381.65(e), as it appears in the January 9 final rule, to paragraph (f) and leaving undisturbed the text of § 381.65(e) as it appears in the Code of Federal Regulations. This paragraph, the requirement to prevent poultry carcasses contaminated with fecal material from entering the chilling tank in a poultry establishment, was not a subject of the rulemaking on retained water.

Finally, FSIS is adding to § 381.66(c)(1), on the use of ice and water from potable sources, a cross-reference to the sanitation regulations governing water use and reuse requirements for official establishments (§ 416.2(g)). This change is being made to ensure that the two sections of the regulations are read in a consistent manner.

Additional Public Notification

Public awareness of all stages of rulemaking and policy development is important. Consequently, in an effort to better ensure that minorities, women, and persons with disabilities are aware of this final rule, FSIS will announce it and provide copies of this Federal Register publication of this final rule correction in the weekly FSIS Constituent Update. The FSIS Constituent Update is communicated via fax to over 300 organizations and individuals. In addition, the update is available on line through the FSIS web page located at “http://www.fsis.usda.gov.” The update is used to provide information regarding FSIS policies, procedures, regulations, Federal Register notices, FSIS public meetings, recalls, and any other types of information that could affect or would be of interest to the Agency's constituents/stakeholders. The constituent fax list consists of industry, trade, and farm groups, consumer interest groups, allied health professionals, scientific professionals, and other individuals who have requested to be included. Through these various channels, FSIS is able to provide information to a much broader, more diverse audience. For more information and to be added to the constituent fax list, readers of this document may fax their requests to the Congressional and Public Affairs Office, at (202) 720-5704.

Correction of Publication

Accordingly, the final rule published on January 9, 2001 (66 FR 1750) is corrected as follows:

1. On page 1762, in the first column, the term “§ 381.1(b)(44)” in the parentheses in the third sentence of the first “Response” is corrected to read “§ 381.1(b).”

2. On page 1764, in the first column, in the second to last sentence in the first paragraph, the term “9 CFR 381.1(b)(44)” is corrected to read “9 CFR 381.1(b).”

3. On page 1764, in the second column, in the fourth line of the first complete paragraph, the term “paragraph (e)” is corrected to read “paragraph (f).”

4. On page 1764, in the second column, the last complete sentence in the column is corrected to read, “New paragraph (c)(1) requires that potable water be used for ice, except that water and ice used for chilling may be reused in accordance with § 416.2(g), and new paragraph (c)(2)(i) requires that chilling equipment be operated in a manner consistent with applicable pathogen reduction performance standards and the establishment's HACCP plan.”

§ 381.1 [Corrected]

5. On page 1770, in the third column, in § 381.1, paragraph (b) is corrected by removing the paragraph designation “(44)” from the definition for ready-to-cook poultry.

§ 381.65 [Corrected]

6. On page 1771, in the first column, in § 381.65, paragraph (e) is corrected and paragraph (f) is added, to read as follows:

* * * * *

(e) Poultry carcasses contaminated with visible fecal material shall be prevented from entering the chilling tank.

(f) Detached ova may be collected for human food and handled only in accordance with 9 CFR 590.44 and may leave the establishment only to be moved to an official egg product processing plant for processing. Ova from condemned carcasses must be condemned and treated as required in § 381.95.

§ 381.66 [Corrected]

7. On page 1771, in the second column, in § 381.66, the first sentence in paragraph (c)(1) is corrected to read as follows:

* * * * *

(c) * * *

(1) Only ice produced from potable water may be used for ice and water chilling, except that water and ice used for chilling may be reused in accordance with § 416.2(g). * * *

Done at Washington, DC: April 12, 2001.
Thomas J. Billy,
Administrator.

[FR Doc. 01-9495 Filed 4-16-01; 8:45 am]

BILLING CODE 3410-DM-P